DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting

Name: Advisory Committee on Interdisciplinary, Community-Based Linkages (ACICBL).

Dates and Times: April 22, 2010, 8:30 a.m. to 5 p.m., EST. April 23, 2010, 8:30 a.m. to 3 p.m., EST.

Place: Doubletree Hotel and Executive Meeting Center, 8120 Wisconsin Avenue, Bethesda, Maryland 20814, Telephone: 301-652-2000.

Status: The meeting will be open to the public.

Purpose: The Committee members will advance their efforts in the development of the Tenth Annual Report with the tentative working topic, Preparing the Interprofessional Workforce to Address Health Behaviors. Additionally, the Committee proposes to examine Healthy People 2010 as a strategy to identify county based data on health behavior issues. Beyond the usual health behavior foci of weight, tobacco use, stress, alcohol/substance use/abuse, the Committee proposes studying the adherence to healthcare regimes with an emphasis on individual healthcare, systems, and community approaches. The meeting will afford Committee members with the opportunity to identify and discuss the current issues in an effort to formulate recommendations for the Secretary of Health and Human Services and the Congress.

Agenda: The ACICBL agenda includes an overview of the Committee's general business activities, presentations by and dialogue with experts, and discussion sessions specific to the development of recommendations to be addressed in the Tenth Annual ACICBL Report. Agenda items are subject to change as dictated by the priorities of the Committee.

Supplementary Information: The ACICBL will join the Council on Graduate Medical Education (COGME), the National Advisory Council on Nurse Education and Practice (NACNEP), and the Advisory Committee on Training in Primary Care Medicine and Dentistry (ACTPCMD) on April 21, 2010, for the third Bureau of Health Professions (BHPr) All Advisory Committee Meeting. Please refer to the Federal Register notice for the BHPr All Advisory Committee Meeting for additional details. Requests to make oral comments or to provide written comments to the ACICBL should be sent to Dr. Joan Weiss, Designated Federal Official, at the contact information below. Individuals who plan to attend the meeting and need special assistance should notify Dr. Weiss at least 10 days prior to the meeting, using the address and phone number below. Members of the public will have the opportunity to provide comments at the meeting.

For Further Information Contact: Anyone requesting information regarding the ACICBL should contact Dr. Joan Weiss, Designated Federal Official with the Bureau of Health Professions, Health Resources and Services Administration, Parklawn Building, Rm 9-36, 5600 Fishers Lane, Rockville, Maryland 20857, (301) 443-6950 or jweiss@hrsa.gov. Additionally, CAPT Norma J. Hatot, Senior Nurse Consultant, can be contacted at (301) 443-2681 or nhatot@hrsa.gov.

Dated: March 18, 2010.
Sahira Rafiullah,
Director, Division of Policy and Information Coordination.

[FR Doc. 2010-6587 Filed 3-24-10; 8:45 am]

BILLING CODE 4165-15-P